DEPARTMENT OF STATE

[Public Notice 5119]

Notice of Public Meeting FY 2006 Refugee Admissions Program

There will be a meeting on the President's FY 2006 Refugee Admissions Program on Wednesday, July 13, 2005 from 2 p.m. to 4 p.m. The meeting will be held at the Refugee Processing Center, 1401 Wilson Boulevard, Suite 700, Arlington, Virginia. The meeting's purpose is to hear the views of attendees on the appropriate size and scope of the FY 2006 Refugee Admissions Program.

Seating is limited. Persons wishing to attend this meeting must Notify the Bureau of Population, Refugees, and Migration at (202) 663-1056 by 5 p.m. (e.d.t.), Wednesday, July 6, 2005 to arrange for admission. Persons wishing to present oral comments or submit written comments for consideration, must provide them in writing by 5 p.m. (e.d.t.), Wednesday, July 6, 2006.

All comments should be faxed to (202) 663-1364.

Information about the Refugee Admissions Program may be found at http://www.state.gov/g/prm/.

Whitney Reitz,
Overseas Program Section Chief, Bureau of Population, Refugees, and Migration, Department of State.

[FR Doc. 05-12573 Filed 6-23-05; 8:45 am]

BILLING CODE 4710-33-P